DEPARTMENT OF HEALTH AND HUMAN SERVICES

Centers for Disease Control and Prevention

[Docket No. CDC-2024-0015]

Proposed Updates for Developing, Implementing, and Evaluating Infection Control Programs for Viral Hemorrhagic Fevers, Andes Virus, and Nipah Virus: Appendix A

AGENCY: Centers for Disease Control and Prevention (CDC), Department of Health and Human Services (HHS).

ACTION: Notice with comment period.

SUMMARY: The Centers for Disease Control and Prevention (CDC) in the Department of Health and Human Services (HHS) announces the opening of a docket to obtain comment on Draft Proposed Updates for Viral hemorrhagic fevers, Andes virus, and Nipah virus: Appendix A (“Draft Updates: Appendix A”). The updated recommendations in the Draft Updates: Appendix A are intended for use by frontline healthcare personnel, as well as infection control personnel and other persons responsible for developing, implementing, and evaluating infection control programs for healthcare settings across the continuum of care.

DATES: Written comments must be received on or before April 26, 2024.

ADDRESSES: You may submit comments, identified by Docket No. CDC-2024-0015 by either of the methods listed below. Do not submit comments by email. CDC does not accept comments by email.

• Federal eRulemaking Portal: http://www.regulations.gov. Follow the instructions for submitting comments.

• Mail: Healthcare Infection Control Practices Advisory Committee (HICPAC) Secretariat, Division of Healthcare Quality Promotion, Centers for Disease Control and Prevention, 1600 Clifton Road NE, Mailstop H16-3, Atlanta, Georgia 30329, Attn: Docket Number CDC-2024-0015.

Instructions: All submissions received must include the agency name and Docket Number. All relevant comments received will be posted without change to http://regulations.gov, including any personal information provided. For access to the docket to read background documents or comments received, go to http://www.regulations.gov.

FOR FURTHER INFORMATION CONTACT: Laura Wells, Division of Healthcare Quality Promotion, Centers for Disease Control and Prevention, 1600 Clifton Road NE, Mailstop H16-2, Atlanta, Georgia 30329; Telephone: (404) 639-4000.

SUPPLEMENTARY INFORMATION:

Public Participation

Interested persons or organizations are invited to participate by submitting written views, recommendations, and data related to Draft Updates: Appendix A.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. Do not submit comments by email. CDC does not accept comment by email.

Background

The Draft Updates: Appendix A, located in the “Supporting and Related Material” tab of the docket, updates the recommendations in Appendix A of the Guideline for Isolation Precautions: Preventing Transmission of Infectious Agents in Healthcare Settings (2007) on the type and duration of isolation precautions for Viral hemorrhagic fevers, Andes virus, and Nipah virus. The Draft Updates: Appendix A provides recommendations to prevent transmission, focusing primarily on types and durations of precautions available to frontline healthcare personnel. The recommendations are being updated to include additional viruses with potential for importation to the United States. The Draft Updates: Appendix A is intended for use by frontline healthcare personnel, as well as infection control personnel and other persons responsible for developing, implementing, and evaluating infection control programs for healthcare settings across the continuum of care. Once the Draft Updates: Appendix A is finalized, the corresponding content in Appendix A of the Guideline for Isolation Precautions: Preventing Transmission of Infectious Agents in Healthcare Settings (2007) will be updated on the CDC Infection Control website (https://www.cdc.gov/infectioncontrol/guidelines/isolation/appendix/index.html).

The updated recommendations in Draft Updates: Appendix A are informed by review and consideration of available literature on transmission principles and infection prevention and control practices for each virus. Draft recommendations were presented to the Healthcare Infection Control Practices Advisory Committee (HICPAC), whose feedback was incorporated into the finalized draft recommendations. HICPAC is a Federal advisory committee appointed to provide advice and guidance to HHS and CDC regarding the practice of infection control and strategies for surveillance, prevention, and control of healthcare-associated infections, antimicrobial resistance, and related topics in United States healthcare settings. HICPAC includes, but is not limited to, representatives with expertise in public health, infectious diseases, and infection prevention and control. HICPAC also includes ex officio members who represent regulatory and other Federal agencies and liaison representatives from professional societies.

CDC is seeking comments on the Draft Updates: Appendix A. Please provide references to new evidence and justification to support any suggested revisions or additions. This Draft Updates: Appendix A is not a Federal rule or regulation.

Noah Aleshire,
Chief Regulatory Officer, Centers for Disease Control and Prevention.

[FR Doc. 2024-03784 Filed 2-23-24; 8:45 am]

BILLING CODE 4163-18-P